DEPARTMENT OF JUSTICE

Office of Justice Programs

[OJP (NIJ) Docket No. 1744]

Request for Public Comment on Proposed Revision of NIJ Standard 0101.06, Ballistic Resistance of Body Armor

AGENCY: National Institute of Justice, Justice.

ACTION: Notice.

SUMMARY: The National Institute of Justice (NIJ) seeks feedback from the public on a proposed revision of NIJ Standard 0101.06, Ballistic Resistance of Body Armor, that specifies minimum performance requirements and test methods for the ballistic resistance of body armor used by U.S. law enforcement that is intended to protect the torso against handgun and rifle ammunition.

DATES: Comments must be received by 5 p.m. Eastern Time on May 23, 2018.

HOW TO RESPOND AND WHAT TO INCLUDE: The draft document can be found here: https://www.nij.gov/body-armor. The draft document is available in both Word and pdf formats. To submit comments, NIJ encourages commenters to fill out the comment template and send it in an email to the contact listed below with “Draft NIJ Standard 0101.07, Ballistic Resistance of Body Armor” in the subject line. Please provide contact information with the submission of comments. All materials submitted are subject to public release under the Freedom of Information Act, and will be shared with U.S. Government staff or U.S. Government contractors for evaluation purposes to revise the draft document. Comments should not include any sensitive personal information or commercially confidential information. If you wish to voluntarily submit confidential commercial information, but do not want it to be publicly released, you must mark that information prominently as “CONFIDENTIAL COMMERCIAL INFORMATION” and NIJ will, to the extent permitted by law, withhold such information from public release.

FOR FURTHER INFORMATION CONTACT: Mark Greene, Policy and Standards Division Director, Office of Science and Technology, National Institute of Justice, 810 7th Street NW, Washington, DC 20531; telephone number: (202) 307-3384; email address: mark.greene2@usdoj.gov.

SUPPLEMENTARY INFORMATION: This draft document is a proposed revision of NIJ Standard 0101.06, Ballistic Resistance of Body Armor, published in 2008 and found here: https://www.ncjrs.gov/pdffiles1/nij/223054.pdf. The final version of this draft document is anticipated to be published in late 2018 as NIJ Standard 0101.07, Ballistic Resistance of Body Armor. Its primary purpose will be for use by the NIJ Compliance Testing Program (CTP) for testing and evaluation of ballistic-resistant body armor for certification by NIJ. It will be used by both ballistics laboratories that test body armor and body armor manufacturers participating in the NIJ CTP. This standard will be included in the Personal Body Armor scope of accreditation used by the National Voluntary Laboratory Accreditation Program (NVLAP) to accredit ballistics laboratories.

The draft NIJ specification Threat Levels and Associated Ammunition to Test Equipment Intended to Protect U.S. Law Enforcement Against Handguns and Rifles referenced in Section 3 of the draft document here can be found at https://www.nij.gov/body-armor.

For more information on NIJ's voluntary standards, please visit https://www.nij.gov/standards. For more information on body armor, please visit https://www.nij.gov/body-armor and https://www.policearmor.org.

David B. Muhlhausen,
Director, National Institute of Justice.

[FR Doc. 2018-03674 Filed 2-21-18; 8:45 am]

BILLING CODE 4410-18-P